DEPARTMENT OF AGRICULTURE

Food and Nutrition Service

Announcement of First Meeting of the 2020 Dietary Guidelines Advisory Committee and Request for Comments

AGENCY: U.S. Department of Agriculture (USDA), Food, Nutrition and Consumer Services (FNCS); Department of Health and Human Services.

ACTION: Notice.

SUMMARY: The Departments of Agriculture and Health and Human Services announce the first meeting of the newly appointed 2020 Dietary Guidelines Advisory Committee (the Committee). This meeting will be open to the public. Additionally, this notice opens a public comment period that will remain open until early 2020, throughout the Committee's deliberations.

DATES: This notice is being provided to the public on March 12, 2019. The first meeting will be held on March 28, 2019, from 9 a.m.-4:30 p.m. and March 29, 2019, from 8:30 a.m.-3 p.m. The public comment period opens with the publication of this notice.

ADDRESSES: (a) The meeting will be accessible by webcast on the internet or by attendance in-person. Registrants will receive the webcast information prior to the meeting. In-person participants also must register prior to the meeting; the meeting will take place at the U.S. Department of Agriculture, South Building, Jefferson Auditorium, 1400 Independence Ave. SW, Washington, DC 20250.

(b) You may send comments, identified by Docket FNS-2019-0001, by either of the following methods:

• Federal eRulemaking Portal: http://www.regulations.gov. Follow the instructions for sending comments. (Preferred method.)

• Mail: Kristin Koegel, USDA Food and Nutrition Service, Center for Nutrition Policy and Promotion, 3101 Park Center Drive, Room 1034, Alexandria, VA 22302.

Instructions: All submissions received must include the agency name and Docket FNS-2019-0001. For detailed instructions on sending comments, see the SUPPLEMENTARY INFORMATION section of this document.

Docket: For access to Docket FNS-2019-0001 to read background documents or comments received, go to www.regulations.gov.

FOR FURTHER INFORMATION CONTACT: Designated Federal Officer (DFO), 2020 Dietary Guidelines Advisory Committee, Eve Stoody, Ph.D.; Center for Nutrition Policy and Promotion, Food and Nutrition Service, USDA; 3101 Park Center Drive, Room 1034; Alexandria, VA 22302: Telephone (703) 305-7600; Fax (703) 305-3300. Additional information is available on the internet at www.DietaryGuidelines.gov.

SUPPLEMENTARY INFORMATION:

Authority and Purpose: Under Section 301 of Public Law 101-445 (7 U.S.C. 5341, the National Nutrition Monitoring and Related Research Act of 1990, Title III) the Secretaries of USDA and HHS are directed to publish the Dietary Guidelines for Americans jointly at least every five years. The law instructs that this publication shall contain nutritional and dietary information and guidelines for the general public, shall be based on the preponderance of scientific and medical knowledge current at the time of publication; and shall be promoted by each Federal agency in carrying out any Federal food, nutrition, or health program. Recent editions of the Dietary Guidelines provide dietary advice for Americans ages 2 years and older. The Agricultural Act of 2014 mandates the addition of dietary guidance for women who are pregnant and infants and toddlers from birth to 24 months of age beginning with the 2020 edition.

USDA and HHS appointed the 2020 Dietary Guidelines Advisory Committee to conduct an independent scientific review that will help inform the Departments' development of the next edition of the Dietary Guidelines. Information on the Dietary Guidelines Advisory Committee membership and the topics and scientific questions the Departments identified to be examined by the Committee is available at www.DietaryGuidelines.gov.

The 2020 Dietary Guidelines Advisory Committee's formation is governed under the provisions of the Federal Advisory Committee Act (FACA), Public Law 92-463, as amended (5 U.S.C., App), which sets forth standards for the formation and use of advisory committees.

Committee's Task: The work of the Committee will be solely advisory in nature and time-limited. The Committee will examine the current Dietary Guidelines for Americans, take into consideration new scientific evidence and current resource documents, and based on the preponderance of current scientific and medical knowledge, develop a report to the Secretaries of USDA and HHS that outlines its science-based assessment and rationale. The Committee's report will help inform the Departments' development of the ninth edition of the Dietary Guidelines for Americans. The Committee will hold approximately five meetings, open to the public, to review and discuss recommendations. Meeting dates, times, locations, and other relevant information will be announced at least 15 days in advance of each meeting via Federal Register notice and at www.DietaryGuidelines.gov. As stipulated in the charter, the Committee will be terminated after delivery of its final report to the Secretaries of USDA and HHS or two years from the date the charter was filed, whichever comes first.

Purpose of the Meeting: In accordance with FACA, and to promote transparency of the process, deliberations of the Committee will occur in a public forum. The purpose of this first meeting is to orient the Committee to the Dietary Guidelines revision process and mark the beginning of its work.

Meeting Agenda: The meeting agenda will include (a) review of operations for the Committee members, (b) overview of the topics and questions identified by the Departments to be examined by the Committee, (c) presentations on the evidence-based approaches for reviewing the scientific evidence, including systematic reviews, data analyses, and food pattern modeling analyses, and (d) plans for future Committee work.

Meeting Registration: The meeting is open to the public. The meeting will be accessible by webcast or by attendance in-person. Registration is required for both web viewing and in-person attendance. To register, go to www.DietaryGuidelines.gov and click on the link for “Meeting Registration.” Online registration begins March 19, 2019, and closes at 5:00 p.m. March 26, 2019. To register by phone or to request a sign language interpreter or other special accommodations, please call for registration and logistics assistance through USDA's Center for Nutrition Policy and Promotion, Susan Cole at (703) 605-4266 by 5:00 p.m., March 26, 2019. All registrants will be asked to provide their name, affiliation, phone number or email address, days attending, and whether they will be participating via webcast or in-person.

Webcast Public Participation: After registration, individuals participating by webcast will receive webcast access information via email.

In-Person Public Participation and Building Access: For in-person participants, this meeting will be held at the U.S. Department of Agriculture, Jefferson Auditorium (South Building), as noted above in the Addresses section. Details regarding registration capacity and directions will be posted on www.DietaryGuidelines.gov. For in-person (registered) participants, check-in at the meeting's on-site registration desk is required and will begin at 7:30 a.m. each day.

Public Comments and Meeting Documents: Written comments from the public will be accepted throughout the Committee's deliberative process and will not be restricted to meeting dates and times. Opportunities to present oral comments to the Committee will be provided at a future meeting(s).

• Electronic submissions: Follow the instructions for submitting comments at www.regulations.gov. Comments submitted electronically, including attachments, will be posted to Docket FNS-2019-0001. (Preferred method.)

• Written/paper submissions: Mail/courier to Kristin Koegel, USDA Food and Nutrition Service, Center for Nutrition Policy and Promotion, 3101 Park Center Drive, Room 1034, Alexandria, VA 22302. For written/paper submissions, CNPP will post your comment, as well as any attachments, to www.regulations.gov.

Meeting materials will be available for public viewing at this meeting. Meeting materials related to each meeting will subsequently be accessible at www.DietaryGuidelines.gov and at the USDA Food and Nutrition Service, Center for Nutrition Policy and Promotion; 3101 Park Center Drive, Room 1034; Alexandria, VA 22302. Materials may be requested by: Telephone (703) 305-7600, Fax (703) 305-3300, dietaryguidelines@usda.gov.

Dated: March 5, 2019.
Brandon Lipps,
Acting Deputy Under Secretary, Food, Nutrition, and Consumer Services, U.S. Department of Agriculture.

[FR Doc. 2019-04543 Filed 3-11-19; 8:45 am]

BILLING CODE 3410-30-P